CORPORATION FOR NATIONAL AND COMMUNITY SERVICE

Information Collection; Submission for OMB Review, Comment Request

AGENCY: Corporation for National and Community Service.

ACTION: Notice.

SUMMARY: The Corporation for National and Community Service (hereinafter the “Corporation”), has submitted a public information collection request (ICR) entitled AmeriCorps Member Feedback Survey (formerly known as Performance Measurement in AmeriCorps) for review and approval in accordance with the Paperwork Reduction Act of 1995, Public Law 104-13, (44 U.S.C. Chapter 35). Copies of this ICR, with applicable supporting documentation, may be obtained by calling the Corporation for National and Community Service, Nathan Dietz, at (202) 606-6633 or e-mail to ndietz@cns.gov. Individuals who use a telecommunications device for the deaf (TTY-TDD) may call (202) 606-3472 between 8:30 a.m. and 5 p.m. Eastern Time, Monday through Friday.

ADDRESSES: Comments may be submitted, identified by the title of the information collection activity, to the Office of Information and Regulatory Affairs, Attn: Ms. Sharon Mar, OMB Desk Officer for the Corporation for National and Community Service, by any of the following two methods within 30 days from the date of publication in the Federal Register:

(1) By fax to: (202) 395-6974, Attention: Ms. Sharon Mar, OMB Desk Officer for the Corporation for National and Community Service; and

(2) Electronically by e-mail to: smar@omb.eop.gov.

SUPPLEMENTARY INFORMATION: The OMB is particularly interested in comments which:

• Evaluate whether the proposed collection of information is necessary for the proper performance of the functions of the Corporation, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology, e.g., permitting electronic submissions of responses.

Comments

A 60-day public comment Notice was published in the Federal Register on December 16, 2010. This comment period ended February 16, 2011. No public comments were received from this Notice.

Description: The Corporation is seeking approval of the Corporation's AmeriCorps Member Feedback Survey (formerly known as AmeriCorps Performance Measurement) which is used by exiting AmeriCorps members to assess members' satisfaction with the experience, training, supervision, etc.

Type of Review: Renewal.

Agency: Corporation for National and Community Service.

Title: AmeriCorps Member Feedback Survey (formerly known as AmeriCorps Performance Measurement).

OMB Number: # 3045-0094.

Agency Number: None.

Affected Public: Exiting AmeriCorps members.

Total Respondents: 2011—115,000 respondents; 2012—140,000 respondents; 2013—170,000 respondents.

Frequency: Annual.

Average Time per Response: Ten minutes.

Estimated Total Burden Hours: 2011—19,167 hours; 2012—23,333 hours; 2013—28,333 hours.

Total Burden Cost (capital/startup): None.

Total Burden Cost (operating/maintenance): None.

Dated: April 25, 2011.
Heather Peeler,
Chief Strategy Officer, Strategy Office.

[FR Doc. 2011-10472 Filed 4-28-11; 8:45 am]

BILLING CODE 6050-$$-P